DEPARTMENT OF HEALTH AND HUMAN SERVICES

Centers for Medicare & Medicaid Services

[Document Identifier CMS-10434]

Agency Information Collection Activities: Proposed Collection; Comment Request; Webinars

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection (request for a new OMB control number). Title of Information Collection: Medicaid and CHIP Program (MACPro). Use: Medicaid, authorized by Title XIX of the Social Security Act and, CHIP, reauthorized by the Children's Health Insurance Program Reauthorization Act of 2009 (CHIPRA), play an important role in financing health care for approximately 48 million people throughout the country. By 2014, it is expected that an additional 16 million people will become eligible for Medicaid and CHIP as a result of the Affordable Care Act (Pub. L. 111-148). In order to implement the statute, CMS must provide a mechanism to ensure timely approval of Medicaid and CHIP State plans, waivers and demonstrations and provide a repository for all Medicaid and CHIP program data that supplies data to populate Healthcare.gov and other required reports. Additionally, 42 CFR 430.12 sets forth the authority for the submittal and collection of State plans and plan amendment information. Pursuant to this requirement, CMS has created the MACPro system.

Generally, MACPro will be used by both State and CMS officials to: Improve the State application and Federal review processes, improve Federal program management of Medicaid programs and CHIP, and standardize Medicaid program data. More specifically, it will be used by State agencies to (among other things): (1) Submit and amend Medicaid State Plans, CHIP State Plans, and Information System Advanced Planning Documents, and (2) submit applications and amendments for State waivers, demonstration, and benchmark and grant programs. It will be used by CMS to (among other things): (1) Provide for the review and disposition of applications, and (2) monitor and track application activity.

This system will be operational in phases, beginning with this first phase or Phase 1, MACPro will include the following three authorities: State Plan and CHIP Eligibility, Alternative Benchmark plans, and 1115 Waiver Demonstration portions/modules to be implemented before January 1, 2013.

A paper-based version of the MACPro instrument would be sizable and time consuming for interested parties to follow as a paper-based instrument. In our effort to provide the public with the most efficient means to make sense of the MACPro system, we will be conducting four webinars in lieu of including a paper-based version of MACPro on CMS' PRA-related Web site.

The webinars will be held:

1. June 13, 2012, from 1 to 3 p.m. EST.

2. June 20, 2012, from 1 to 3 p.m. EST.

3. June 27, 2012, from 1 to 3 p.m. EST.

4. July 11, 2012, from 1 to 3 p.m. EST.

Please note that the webinars will be recorded by CMS and can be accessed by the public at http://www.medicaid.gov/State-Resource-Center/Events-and-Announcements/Events-and-Announcements.html at any time during the duration of the public comment period. Each webinar will present the most current MACPro information so they are not expected to be identical. No login or password is needed.

Form Number: CMS-10434 (OCN 0938-New). Frequency: Annual and once. Affected Public: State, Local, or Tribal Governments. Number of Respondents: 56. Total Annual Responses: 15. Total Annual Hours: 15,736 (or 5,245 hr for each of the three authorities). (For policy questions regarding this collection contact Darlene Anderson at 410-786-9828. For all other issues call 410-786-1326.)

To obtain copies of the supporting statement for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 7, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier CMS-10434, Room C4-26-05, 7500 Security Boulevard, Baltimore, Maryland 21244-1850.

Dated: June 4, 2012.
Martique Jones,
Director, Regulations Development Group, Division B Office of Strategic Operations and Regulatory Affairs.

[FR Doc. 2012-13869 Filed 6-7-12; 8:45 am]

BILLING CODE 4120-01-P